DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before March 12, 2021.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC.

This notice of receipt of applications for special permit is published in accordance with part 107 of the Federal hazardous materials transportation law (49 U.S.C. 5117(b); 49 CFR 1.53(b)).

Issued in Washington, DC, on February 4, 2021.
Donald P. Burger,
Chief, General Approvals and Permits Branch.

Special Permits Data
Application No. | Applicant | Regulation(s) affected | Nature of the special permits thereof
Granted
14636-M | Department of Defense (Military Surface Deployment & Distribution Command) | 172.301(c), 180.209 | To modify the special permit to streamline the identification of tubes being requalified and to authorize additional OCONUS locations.
15691-M | Department of Defense (Military Surface Deployment & Distribution Command) | 172.301(c), 180.209 | To streamline the listing of authorized cylinders, update the locations where the permitted cylinders are authorized and remove the one-time extension and restate the five year requalification requirements.
16118-M | Toyota Motor Sales USA Inc | 173.301(a)(1) | To modify the special permit to more closely align it with relevant sections for compressed hydrogen in the UN Model Regulation 21st Revision, Special Provision 392.
16308-M | Vero Biotech LLC | 173.175 | To modify the special permit to authorize a new absorbent filler surrounding the ampules being transported.
21018-M | Packaging and Crating Technologies, LLC | 172.200, 172.300, 172.400, 172.600, 172.700(a), 173.185(b), 173.185(c), 173.185(f) | To modify the special permit to authorize batteries up to 1200Wh to be transported in Thermo Shield pleatwrap.
21135-N | JohnDow Industries, Inc | 178.503(a) | To authorize the marking of specification packagings that were mismarked with an incorrect specification.
21142-N | Atlas Air, Inc | 172.101(j), 172.204(c)(3), 173.27(b)(2), 173.27(b)(3) | To authorize the transportation in commerce of explosives forbidden aboard cargo-only aircraft by cargo-only aircraft.
21166-M | Federal Cartridge Company | 173.56(b) | To modify the special permit to authorize private carriage of the authorized hazmat.
21173-N | Lynden Air Cargo, LLC | 172.101 Column (9B) | To authorize the transportation in commerce of certain explosives which are forbidden for transport by cargo-only aircraft.
21175-N | I-K-I Manufacturing Co., Inc | 173.306(a)(5) | To authorize the transportation in commerce of plastic aerosols classed as Division 2.1 for the purposes of testing and disposal.
21176-N | Solvay Fluorides, LLC | 173.227 | To authorize the transportation in commerce of 3 cargo containers containing a 6.1 hazmat that has been packaged and packed in accordance with IMDG regulations but not the HMR.
Denied
Withdrawn
21108-N | Aerospacelab | 173.185(a)(1) | To authorize the transportation in commerce of low production lithium batteries contained in equipment by motor vehicle and cargo-only aircraft.
21113-N | Spaceflight, Inc | 173.185(a)(1) | To authorize the transportation in commerce of low production lithium batteries contained in spacecraft by cargo-only aircraft.
21164-N | The Boeing Company | 172.102, 172.200, 172.560, 172.301, 172.700(a), 172.447, 173.27, 173.185, 178.600 | To authorize the transportation in commerce of a temperature-controlled Active Unit Load Device (containing compressed gas and lithium battery) via aircraft.

[FR Doc. 2021-02769 Filed 2-9-21; 8:45 am]

BILLING CODE 4909-60-P